DEPARTMENT OF JUSTICE

Notice of Lodging of Proposed Consent Decree under the Clean Air Act

On April 20, 2023 the Department of Justice lodged a proposed consent decree with the United States District Court for the District of Utah in the lawsuit entitled United States, State of North Dakota, and State of Wyoming v. MPLX, LP, Civil Action No. 2:23-cv-00252-RJS.

The United States, State of North Dakota and State of Wyoming filed this lawsuit under the Clean Air Act. The complaint alleges multiple violations of the Leak Detection and Repair provisions and other requirements in the Clean Air Act's New Source Performance Standards and National Emissions Standards for Hazardous Air Pollutants. The consent decree will require defendant to take specified actions to come into compliance with the Clean Air Act, pay a civil penalty of $2 million, and take several pollution mitigation actions to reduce volatile organic compound emissions.

The publication of this notice opens a period for public comment on the proposed consent decree. Comments should be addressed to the Assistant Attorney General, Environment and Natural Resources Division, and should refer to United States, State of North Dakota, and State of Wyoming v. MPLX, LP, D.J. Ref. No. 90-5-2-1-11374/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $41.00 (25 cents per page reproduction cost) payable to the United States Treasury.

Jeffrey Sands,
Assistant Section Chief, Environmental Enforcement Section, Environment and Natural Resources Division.

[FR Doc. 2023-08838 Filed 4-26-23; 8:45 am]

BILLING CODE 4410-15-P